DEPARTMENT OF DEFENSE

Office of the Secretary

TRICARE; Civilian Health and Medical Program of the Uniformed Services (CHAMPUS); Fiscal Year 2003 Revised Diagnosis Related Group (DRG) Adjusted Standardized Amounts (ASAs) for Other Areas

AGENCY: Office of the Secretary, DoD.

ACTION: Notice of revised DRG ASA rates for other areas.

SUMMARY: This notice informs readers of a change made to the TRICARE DRG-based payment system in order to conform to a change made to the Medicare Prospective Payment System (PPS). The FY 2003 Omnibus Appropriations Act equalized the large urban and other urban ASAs under Medicare's Prospective Payment System (PPS). The TRICARE DRG-based payment system is modeled on the Medicare PPS, therefore it is necessary to revise the TRICARE ASA rates for other areas to conform to the Medicare PPS change. The updated ASA rates for other areas are accessible through the Internet at http://www.tricare.osd.mil under the sequential headings TRICARE Provider Information, Rates and Reimbursements, and DRG Information.

EFFECTIVE DATES: The revised ASA rates for other areas under the TRICARE DRG-based payment system are effective for admissions occurring on or after April 1, 2003.

ADDRESSES: TRICARE Management Activity (TMA), Medical Benefits and Reimbursement Systems, 16401 East Centretech Parkway, Aurora, CO 80011-9066.

FOR FURTHER INFORMATION CONTACT: Marty Maxey, Medical Benefits and Reimbursement Systems, TMA, telephone (303) 676-3627.

Dated: May 22, 2003.
L.M. Bynum,
Alternate OSD Federal Register, Liaison Officer, Department of Defense.

[FR Doc. 03-13398 Filed 6-26-03; 8:45 am]

BILLING CODE 5001-08-M